DEPARTMENT OF STATE

[Public Notice 5227]

Bureau of Political-Military Affairs: Directorate of Defense Trade Controls; Notifications to the Congress of Proposed Commercial Export Licenses

SUMMARY: Notice is hereby given that the Department of State has forwarded the attached Notifications of Proposed Export Licenses to the Congress on the dates indicated pursuant to sections 36(c) and 36(d) and in compliance with section 36(f) of the Arms Export Control Act (22 U.S.C. 2776).

DATES: Effective Date: As shown on each of the 23 letters.

FOR FURTHER INFORMATION CONTACT: Mr. Peter J. Berry, Director, Office of Defense Trade Controls Licensing, Directorate of Defense Trade Controls, Bureau of Political-Military Affairs, Department of State (202) 663-2806.

SUPPLEMENTARY INFORMATION: Section 36(f) of the Arms Export Control Act mandates that notifications to the Congress pursuant to sections 36(c) and 36(d) must be published in the Federal Register when they are transmitted to Congress or as soon thereafter as practicable.

June 9, 2005.

Hon. J. Dennis Hastert, Speaker of the House of Representatives.

Dear Mr. Speaker: Pursuant to section 36(d) of the Arms Export Control Act, I am transmitting, herewith, certification of a proposed manufacturing license agreement for the manufacture of significant military equipment abroad.

The transaction contained in the attached certification involves the transfer of technical data, assistance, including training, and manufacturing know-how to Australia for the manufacture of the RAN SEA 4000 Air Warfare Destroyer (AWD) for end-use in Australia.

The United States Government is prepared to license the export of this item having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 009-05.

June 21, 2005.

Hon. J. Dennis Hastert, Speaker of the House of Representatives.

Dear Mr. Speaker: Pursuant to section 36(c) of the Arms Export Control Act, I am transmitting, herewith, certification of a proposed license for the export of defense articles that are firearms controlled under category I of the United States Munitions List sold commercially under a contract in the amount of $1,000,000 or more.

The transaction contained in the attached certification involves the export of 2,300 Armalite M15 rifles, 200 Armalite M15 carbines and supporting equipment to the Ghana Armed Forces, Ministry of Defense, Government of Ghana.

The United States Government is prepared to license the export of these items having taken into account political, military, economic, human rights and arms control considerations.

More detailed information is contained in the formal certification, which, though unclassified, contains business information submitted to the Department of State by the applicant, publication of which could cause competitive harm to the United States firm concerned.

Sincerely,

Matthew A. Reynolds,

Acting Assistant Secretary Legislative Affairs.

Enclosure: Transmittal No. DTC 003-05.

June 30, 2005.

Hon. J. Dennis Hastert, Speaker of the House of Representatives.

Dear Mr. Speaker: Pursuant to section 36(c) of the Arms Export Control Act, I am transmitting, herewith, certification of a proposed license for the export of defense articles that are firearms controlled under category I of the United States Munitions List sold commercially under a contract in the amount of $1,000,000 or more.

The transaction contained in the attached certification involves the export of 3,000 .38 caliber revolvers, 500 9mm pistols, 500 12 gauge shotguns, 200 Mini-14 rifles and 100 M4 carbines to the Haiti National Police, Government of Haiti.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 010-05.

June 30, 2005.

Hon. J. Dennis Hastert, Speaker of the House of Representatives.

Dear Mr. Speaker: Pursuant to section 36(c) of the Arms Export Control Act, I am transmitting, herewith, certification of a proposed license for the export of defense articles that are firearms controlled under Category I of the United States Munitions List sold commercially under a contract in the amount of $1,000,000 or more.

The transaction contained in the attached certification involves the export of Browning bolt-action, lever-action, semi-automatic rifles and pistols (calibers: .22, .25-06, .270, .30-06, 30-30, .300, .308, .338, .357, .358, .44, .45, 7mm and .223) for the distribution by Browning International in Belgium for the following sales territories: Austria, Belgium, Denmark, Finland, France, Germany, Greece, Hungary, Iceland, Ireland, Italy, Luxembourg, Netherlands, Norway, Portugal, Spain, Sweden, Switzerland and the United Kingdom.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DTC 012-05.

July 5, 2005.

Hon. J. Dennis Hastert, Speaker of the House of Representatives.

Dear Mr. Speaker: Pursuant to section 36(c) of the Arms Export Control Act, I am transmitting, herewith, certification of a proposed manufacturing license agreement for the export of defense articles or defense services in the amount of $100,000,000 or more.

The transaction contained in the attached certification involves the export of technical data, defense services and hardware to Japan for the manufacture of the AN/APG-63(V)0 radar system kits for the Japanese Defense Agency.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 023-05.

July 5, 2005.

Hon. J. Dennis Hastert, Speaker of the House of Representatives.

Dear Mr. Speaker: Pursuant to section 36(d) of the Arms Export Control Act, I am transmitting, herewith, certification of a proposed technical assistance agreement for the manufacture of significant military equipment abroad.

The transaction contained in the attached certification involves the export of defense services, to include build-to-print specifications to Terralogic, United Kingdom for the manufacture of components of Joint Biological Point Detection Systems (JBPDS) for end-use by the U.S. Army.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 016-05.

July 14, 2005.

Hon. J. Dennis Hastert, Speaker of the House of Representatives.

Dear Mr. Speaker: Pursuant to section 36(d) of the Arms Export Control Act, I am transmitting, herewith, certification of a proposed manufacturing license agreement for the manufacture of significant military equipment abroad.

The transaction described in the attached certification involves the transfer of technical data, assistance and manufacturing know-how to Australia for the manufacture of 20mm and 25mm ammunition articles for end-use in Australia, New Zealand, Brunei and Papua New Guinea.

The United States Government is prepared to license the export of this item having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 004-05.

July 22, 2005.

Hon. J. Dennis Hastert, Speaker of the House of Representatives.

Dear Mr. Speaker: Pursuant to section 36(c) of the Arms Export Control Act, I am transmitting, herewith, certification of a proposed license for the export of defense articles or defense services sold commercially under a contract in the amount of $50,000,000 or more.

The transaction contained in the attached certification involves the export of technical data, defense services, and hardware to Luxembourg and Sweden for the design, production and launch of the Sirius-4 and Sirius-4R commercial communications satellites for Luxembourg.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 011-05.

July 22, 2005.

Hon. J. Dennis Hastert, Speaker of the House of Representatives.

Dear Mr. Speaker: Pursuant to section 36(c) of the Arms Export Control Act, I am transmitting, herewith, certification of a proposed license for the export of defense articles or defense services sold commercially under a contract in the amount of $50,000,000 or more.

The transaction contained in the attached certification involves the export and launch of commercial communications satellites, and related support equipment to Russia and Kazakhstan.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 026-05.

July 29, 2005.

Hon. J. Dennis Hastert, Speaker of the House of Representatives.

Dear Mr. Speaker: Pursuant to section 36(c) of the Arms Export Control Act, I am transmitting, herewith, certification of a proposed license for the export of defense articles or defense services sold commercially under a contract in the amount of $50,000,000 or more.

The transactions contained in the attached certification concern future commercial activities with Russia, Ukraine and Norway (and Korea and France pertaining to Koreasat V) related to the launch of all commercial and foreign non-commercial satellites from the Pacific Ocean utilizing a modified oil platform.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 024-05.

July 29, 2005.

Hon. J. Dennis Hastert, Speaker of the House of Representatives.

Dear Mr. Speaker: Pursuant to section 36(c) of the Arms Export Control Act, I am transmitting, herewith, certification of a proposed license for the export of defense articles or defense services sold commercially under a contract in the amount of $50,000,000 or more.

The transactions contained in the attached certification concern future commercial activities with Russia and Kazakhstan related to the launch of all commercial and foreign non-commercial satellites using the Proton Space Launch Vehicle from the Baikonur Cosmodrome in Kazakhstan.

The United States Government is prepared to license the export of these items having taken into account political, military, economic, human rights and arms control considerations.

More detailed information is contained in the formal certification which, though unclassified, contains business information submitted to the Department of State by the applicant, publication of which could cause competitive harm to the United States firm concerned.

Sincerely, Matthew A. Reynolds,

Acting Assistant Secretary Legislative Affairs.

Enclosure: Transmittal No. DDTC 025-05.

August 4, 2005.

Hon. J. Dennis Hastert, Speaker of the House of Representatives.

Dear Mr. Speaker: Pursuant to section 36(c) and (d) of the Arms Export Control Act, I am transmitting, herewith, certification of a proposed manufacturing license agreement for the manufacture of significant military equipment abroad and the export of defense articles or defense services in the amount of $100,000,000 or more.

The transaction contained in the attached certification involves the export of technical data and defense services and hardware to the United Kingdom and Canada for the design, manufacture and sale of Bowan Communications Systems for end use in the United Kingdom for the United Kingdom Royal Armed Services.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 097-04.

August 4, 2005.

Hon. J. Dennis Hastert, Speaker of the House of Representatives.

Dear Mr. Speaker: Pursuant to section 36(c) of the Arms Export Control Act, I am transmitting, herewith, certification of a proposed license for the export of defense articles or defense services sold commercially under a contract in the amount of $100,000,000 or more.

The transaction contained in the attached certification involves the temporary export of one (1) EchoStar X fully fueled A2100 commercial communications satellite and launch operations support equipment to Sea Launch Company, LLC and the Boeing Company for a Pacific Ocean launch December 2005.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 008-05.

August 4, 2005.

Hon. J. Dennis Hastert, Speaker of the House of Representatives.

Dear Mr. Speaker: Pursuant to section 36(d) of the Arms Export Control Act, I am transmitting, herewith, certification of a proposed manufacturing license agreement for the manufacture of significant military equipment abroad.

The transaction described in the attached certification involves the transfer of technical data, assistance and manufacturing know-how to Japan for the manufacture, testing, integrating, training, and repair and maintenance of the LN-31 Inertial Navigation System for the Japan Defense Agency's F-15J aircraft.

The United States Government is prepared to license the export of this item having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 019-05.

August 4, 2005.

Hon. J. Dennis Hastert, Speaker of the House of Representatives.

Dear Mr. Speaker: Pursuant to section 36(c) of the Arms Export Control Act, I am transmitting, herewith, certification of a proposed license for the export of major defense equipment and defense articles in the amount of $100,000,000 or more.

The transaction contained in the attached certification involves the export to Japan of defense articles for the overhaul and manufacture of SIIIS-3XT4/T4 Ejection Seats for use in Japan.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 020-05.

August 4, 2005.

Hon. J. Dennis Hastert, Speaker of the House of Representatives.

Dear Mr. Speaker: Pursuant to section 36(c) of the Arms Export Control Act, I am transmitting, herewith, certification of a proposed license for the export of defense articles or defense services sold commercially under a contract in the amount of $50,000,000 or more.

The transaction contained in the attached certification involves the export of defense services, technical data and defense articles related to armored security vehicles (ASV APCs) and armored security vehicle command vehicle for end-use by the Iraqi Ministry of the Interior/Civil Intervention Force in Support of Operation Iraqi Freedom.

The United States Government is prepared to license the export of these items having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 035-05.

September 6, 2005.

Hon. J. Dennis Hastert, Speaker of the House of Representatives.

Dear Mr. Speaker: Pursuant to section 36(c) of the Arms Export Control Act, I am transmitting, herewith, certification of a proposed license for the export of major defense equipment sold commercially under a contract in the amount of $14,000,000 or more.

The transaction contained in the attached certification involves the export of Goalkeeper Guns and Gun Mounts to South Korea for use by the South Korean Navy for anti-ship missile defense.

The United States Government is prepared to license the export of these items having taken into account political, military, economic, human rights and arms control considerations.

More detailed information is contained in the formal certification, which, though unclassified, contains business information submitted to the Department of State by the applicant, publication of which could cause competitive harm to the United States firm concerned.

Sincerely,

Matthew A. Reynolds,

Acting Assistant Secretary Legislative Affairs.

Enclosure: Transmittal No. DTC 029-05.

September 6, 2005.

Hon. J. Dennis Hastert, Speaker of the House of Representatives.

Dear Mr. Speaker: Pursuant to section 36(c) of the Arms Export Control Act, I am transmitting, herewith, certification of a proposed license for the export of defense articles that are firearms controlled under category I of the United States Munitions List sold commercially under a contract in the amount of $1,000,000 or more.

The transaction contained in the attached certification involves the export of 5,519 Smith & Wesson, .38 caliber, Model 37 revolvers. These weapons are being sold to the National Police Agency of Japan.

The United States Government is prepared to license the export of these items having taken into account political, military, economic, human rights and arms control considerations.

More detailed information is contained in the formal certification, which, though unclassified, contains business information submitted to the Department of State by the applicant, publication of which could cause competitive harm to the United States firm concerned.

Sincerely,

Matthew A. Reynolds,

Acting Assistant Secretary Legislative Affairs.

Enclosure: Transmittal No. DTC 034-05.

September 28, 2005.

Hon. J. Dennis Hastert, Speaker of the House of Representatives.

Dear Mr. Speaker: Pursuant to section 36(c) of the Arms Export Control Act, I am transmitting, herewith, certification of a proposed license for the export of defense articles or defense services sold commercially under a contract in the amount of $100,000,000 or more.

The transaction contained in the attached certification involves the export of technical data, defense services, and hardware to Japan for design, production and launch of the BSAT-3a commercial communications satellite for Japan.

The United States Government is prepared to license the export of these items having taken into account political, military, economic, human rights and arms control considerations.

More detailed information is contained in the formal certification, which, though unclassified, contains business information submitted to the Department of State by the applicant, publication of which could cause competitive harm to the United States firm concerned.

Sincerely,

Matthew A. Reynolds,

Acting Assistant Secretary Legislative Affairs.

Enclosure: Transmittal No. DTC 027-05.

September 28, 2005.

Hon. J. Dennis Hastert, Speaker of the House of Representatives.

Dear Mr. Speaker: Pursuant to section 36(d) of the Arms Export Control Act, I am transmitting, herewith, certification of a proposed manufacturing license agreement for the manufacture of significant military equipment abroad.

The transaction described in the attached certification involves the transfer of technical information, including hardware and services for licensed production of the Evolved SeaSparrow Missile (ESSM) for ultimate sale to and end-use by the Japan Defense Agency (JDA).

The United States Government is prepared to license the export of this item having taken into account political, military, economic, human rights and arms control considerations.

More detailed information is contained in the formal certification which, though unclassified, contains business information submitted to the Department of State by the applicant, publication of which could cause competitive harm to the United States firm concerned.

Sincerely,

Matthew A. Reynolds,

Acting Assistant Secretary Legislative Affairs.

Enclosure: Transmittal No. DDTC 030-05.

September 28, 2005.

Hon. J. Dennis Hastert, Speaker of the House of Representatives.

Dear Mr. Speaker: Pursuant to section 36(c) of the Arms Export Control Act, I am transmitting, herewith, certification of a proposed license for the export of defense articles or defense services sold commercially under a contract in the amount of $100,000,000 or more.

The transaction contained in the attached certification involves the temporary export of one (1) JCSAT 9 fully fueled commercial communications satellite and launch operations support for a Pacific Ocean launch December 2005.

The United States Government is prepared to license the export of these items having taken into account political, military, economic, human rights and arms control considerations.

More detailed information is contained in the formal certification, which, though unclassified, contains business information submitted to the Department of State by the applicant, publication of which could cause competitive harm to the United States firm concerned.

Sincerely,

Matthew A. Reynolds,

Acting Assistant Secretary Legislative Affairs.

Enclosure: Transmittal No. DTC 045-05.

October 21, 2005.

Hon. J. Dennis Hastert, Speaker of the House of Representatives.

Dear Mr. Speaker: Pursuant to section 36(c) of the Arms Export Control Act, I am transmitting, herewith, certification of a proposed license for the export of major defense equipment and defense articles in the amount of $100,000,000 or more.

The transaction contained in the attached certification involves the transfer to Canada of technical data, defense services, and defense articles necessary to support the modernization of CF-18 aircraft for the end use by the Canadian Department of National Defense.

The United States Government is prepared to license the export of these items having taken into account political, military, economic, human rights and arms control considerations.

More detailed information is contained in the formal certification, which, though unclassified, contains business information submitted to the Department of State by the applicant, publication of which could cause competitive harm to the United States firm concerned.

Sincerely,

Matthew A. Reynolds,

Acting Assistant Secretary Legislative Affairs.

Enclosure: Transmittal No. DTC 031-05.

October 21, 2005.

Hon. J. Dennis Hastert, Speaker of the House of Representatives.

Dear Mr. Speaker: Pursuant to section 36(c) of the Arms Export Control Act, I am transmitting, herewith, certification of a proposed license for the export of major defense equipment and defense articles in the amount of $100,000,000 or more.

The transaction contained in the attached certification involves the transfer to Commonwealth of Australia and the Government of Canada of additional technical data, defense services, and defense articles necessary to support the Royal Australian Air Forces F/A-18 Aircraft Mid-Life Hornet Upgrade Program.

The United States Government is prepared to license the export of these items having taken into account political, military, economic, human rights and arms control considerations.

More detailed information is contained in the formal certification, which, though unclassified, contains business information submitted to the Department of State by the applicant, publication of which could cause competitive harm to the United States firm concerned.

Sincerely,

Matthew A. Reynolds,

Acting Assistant Secretary Legislative Affairs.

Enclosure: Transmittal No. DTC 041-05.

Dated: November 4, 2005.
Peter J. Berry,
Director, Office of Defense Trade Controls, Licensing, Department of State.

[FR Doc. 05-22626 Filed 11-14-05; 8:45 am]

BILLING CODE 4710-25-P